FEDERAL TRADE COMMISSION

Agency Information Collection Activities: Amended Telemarketing Sales Rule

On January 29, 2003, the Commission's amended Telemarketing Sales Rule, 16 CFR Part 310 (“Rule”), was published in the Federal Register.¹ Before publication, Commission staff submitted for Office of Management and Budget (OMB) review under the Paperwork Reduction Act (44 U.S.C. 3501-3520) a supporting statement detailing its revised burden analysis and estimates for existing and new information collection provisions under the Rule. The revised burden estimates are 3,141,264 hours, $47,066,000 in labor costs, and $11,986,000 in capital and other non-labor costs. On February 25, 2003, OMB granted the Commission clearance for these estimates and related information collection provisions (OMB Control Number 3084-0097). Clearance expires February 28, 2006.

¹ 68 FR 4580 (January 29, 2003).

William E. Kovacic,
General Counsel.

[FR Doc. 03-6282 Filed 3-14-03; 8:45 am]

BILLING CODE 6750-01-M